DEPARTMENT OF HEALTH AND HUMAN SERVICES

Centers for Disease Control and Prevention

Disease, Disability, and Injury Prevention and Control Special Emphasis Panel: Center of Excellence in Public Health Informatics, Request for Application (RFA), HK-09-001, Initial Review

Location: Doubletree Hotel Atlanta-Buckhead, 3342 Peachtree Road, NE., Atlanta, Georgia 30326. Telephone: (404) 231-1234.

Correction: This notice was published in the Federal Register on July 1, 2009, Volume 74, Number 125, page 31452. The original notice was published with an incorrect location.

Contact Person for More Information: Scott J.N. McNabb, PhD, M.S., Associate Director for Science, National Center for Public Health Information and Service, CDC, 1600 Clifton Road NE., Mailstop E-78, Atlanta, GA 30333. Telephone (404) 498-6427. E-mail smcnabb@cdc.gov.

The Director, Management Analysis and Services Office, has been delegated the authority to sign Federal Register notices pertaining to announcements of meetings and other committee management activities, for both CDC and the Agency for Toxic Substances and Disease Registry.

Dated: July 20, 2009.
Elaine L. Baker,
Director, Management Analysis and Services Office, Centers for Disease Control and Prevention.

[FR Doc. E9-17799 Filed 7-24-09; 8:45 am]

BILLING CODE 4163-18-P